DEPARTMENT OF THE INTERIOR

National Park Service

Notice of Inventory Completion: Alaska State Office, Bureau of Land Management, Anchorage, AK; Alutiiq Museum and Archaeological Repository, Kodiak, AK; and University of Wisconsin Anthropology Department Curation Facility, Madison, WI

AGENCY: National Park Service, Interior.

ACTION: Notice.

Notice is here given in accordance with the Native American Graves Protection and Repatriation Act (NAGPRA), 25 U.S.C. 3003, of the completion of an inventory of human remains under the control of the Alaska State Office, Bureau of Land Management, Anchorage, AK, and in the physical custody of the Alutiiq Museum and Archaeological Repository, Kodiak, AK; Smithsonian Institution, Washington, DC; and the University of Wisconsin Anthropology Department Curation Facility, Madison, WI. The human remains were removed from Sitkalidak Island and Kodiak Island, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Alaska State Office, Bureau of Land Management; Alutiiq Museum and Archaeological Repository; Smithsonian Institution; and University of Wisconsin Anthropology Department Curation Facility professional staff in consultation with the Native Village of Old Harbor, Old Harbor Native Corporation, and Koniag, Inc.

In 1960, human remains representing a minimum of one individual were removed from the Rolling Bay site (49-KOD-00101) on Sitkalidak Island, AK, by Drs. William Laughlin and J.B. Jorgensen. The human remains are currently at the Alutiiq Museum and Archaeological Repository, Kodiak, AK. No known individual was identified. No associated funerary objects are present.

In 1961, human remains representing a minimum of one individual were removed from the Rolling Bay site (49-KOD-00101) on Sitkalidak Island, AK, during excavations in association with Dr. Donald Clark. The human remains are currently at the Alutiiq Museum and Archaeological Repository, Kodiak, AK. No known individual was identified. No associated funerary objects are present.

During 1960-1962, human remains representing a minimum of 44 individuals were removed from the Rolling Bay site (49-KOD-00101) on Sitkalidak Island, AK, during excavations associated with the now-deceased Dr. William Laughlin. The human remains are currently at the Smithsonian Institution, Washington, DC. No known individuals were identified. No associated funerary objects are present.

All the sets of human remains from the Rolling Bay site presently at the Alutiiq Museum and Archaeological Repository and the Smithsonian Institution had originally been sent, following their excavation, to the University of Wisconsin's Department of Anthropology for study and storage, under the care of Dr. William Laughlin. When Dr. Laughlin later moved to the University of Connecticut at Storrs, he took two sets of human remains; the other 44 individuals remained at the University of Wisconsin's Department of Anthropology. In the late 1990s, following Dr. Laughlin's retirement, the two sets of human remains then at the University of Connecticut at Storrs were transported to the Museum of the Aleutians in Unalaska, AK, where they were deposited in the care of archeologist Dr. Richard Knecht. In approximately 2000, the human remains were sent by Dr. Knecht to the Alutiiq Museum and Archaeological Repository, where they are currently stored. In 2006, the 44 individuals at the University of Wisconsin's Department of Anthropology were sent to the Smithsonian Institution, where they are currently stored.

In 1963, human remains representing one individual were removed from the Sitkalidak site (49-KOD-00121) located along Ocean Bay, on Sitkalidak Island, AK, during excavations by archeologists thought to be associated with the University of Wisconsin. The human remains are currently in the University of Wisconsin Department of Anthropology Curation Facility. No known individual was identified. No associated funerary objects are present.

In 1964 or 1965, human remains representing one individual were removed from the Saltery Cove 1 site (49-KOD-00062), in the Saltery Cove region of Kodiak Island, AK, during excavations by archeologists thought to be associated with the University of Wisconsin. The human remains are currently in the University of Wisconsin Department of Anthropology Curation Facility. No known individual was identified. No associated funerary objects are present.

Both sets of human remains from the Sitkalidak and Saltery Cove sites presently housed at the University of Wisconsin Anthropology Department Curation Facility had originally been sent, following their excavation, to the University of Wisconsin Department of Anthropology for study and storage. They were under the care of Dr. William Laughlin, and they remained at this facility following his death. In 2008, the human remains were identified and inventoried.

The Rolling Bay site lies on the coast of Sitkalidak Island on the southeastern shores of Alaska's Kodiak archipelago. Drs. Laughlin and Jorgensen visited the site in 1960, and collected eroding human skeletal remains from prehistoric deposits. Additional archeological work followed in 1961-1962. Later excavations by Dr. Clark, showed that the deposits at the Rolling Bay site belong to the Koniag Tradition, the cultural ancestor of modern Alutiiqs.

Based on their provenience and condition, the human remains from the Rolling Bay, the Sitkalidak, and Saltery Cove sites are all determined to be Native American, and ancestors of the citizens and shareholders of the Village of Old Harbor, Old Harbor Native Corporation, and Koniag, Inc.

Officials of the Alaska State Office, Bureau of Land Management; Alutiiq Museum and Archaeological Repository; and the University of Wisconsin Department of Anthropology Curation Facility have determined that, pursuant to 25 U.S.C. 3001 (9-10), the human remains described above represent the physical remains of a minimum of 48 individuals of Native American ancestry. Officials of the Alaska State Office, Bureau of Land Management; Alutiiq Museum and Archaeological Repository; and the University of Wisconsin Department of Anthropology Curation Facility also have determined that, pursuant to 25 U.S.C. 3001 (2), there is a relationship of shared group identity that can be reasonably traced between the Native American human remains and the Village of Old Harbor, Old Harbor Native Corporation, and Koniag, Inc.

Representatives of any other Indian tribe that believes itself to be culturally affiliated with the human remains should contact Dr. Robert E. King, Alaska State NAGPRA Coordinator, Bureau of Land Management, 222 W. 7th Ave., Box 13, Anchorage, AK 99513-7599, telephone (907) 271-5510, before September 21, 2009. Repatriation of the human remains to the Village of Old Harbor, Old Harbor Native Corporation, or Koniag, Inc. may proceed after that date if no additional claimants come forward.

The Alaska State Office, Bureau of Land Management is responsible for notifying the Village of Old Harbor, the Old Harbor Native Corporation, and Koniag, Inc. that this notice has been published.

Dated: August 7, 2009.
Sherry Hutt,
Manager, National NAGPRA Program.

[FR Doc. E9-19977 Filed 8-19-09; 8:45 am]

BILLING CODE 4312-50-S